DEPARTMENT OF TRANSPORTATION

Office of the Secretary

[Docket OST-00-6833]

Fitness Determination of Northwest Seaplanes, Inc.

AGENCY: Office of the Secretary, DOT.

ACTION: Notice of order to show cause (Order 2000-7-10).

SUMMARY: The Department of Transportation is directing all interested persons to show cause why it should not issue an order finding that Northwest Seaplanes, Inc., is fit, willing, and able, to conduct scheduled passenger operations as a commuter air carrier.

DATES: Persons wishing to file objections should do so no later than July 25, 2000.

ADDRESSES: Objections and answers to objections should be filed in the Docket OST-00-6833 and addressed to the Department of Transportation Dockets, U.S. Department of Transportation, 400 Seventh Street, SW., Room PL-401, Washington, DC 20590, and should be served upon the parties listed in Attachment A to the order.

FOR FURTHER INFORMATION CONTACT: Ms. Kathy Lusby Cooperstein, Air Carrier Fitness Division (X-56, Room 6401), U.S. Department of Transportation, 400 Seventh Street, SW., Washington, DC 20590, (202) 366-2337.

Dated: July 10, 2000.
A. Bradley Mims,
Acting Assistant Secretary for Aviation and International Affairs.

[FR Doc. 00-17866 Filed 7-13-00; 8:45 am]

BILLING CODE 4910-62-P